DEPARTMENT OF THE INTERIOR

Bureau of Land Management

[58% to CO-956-1420-BJ-0000-241A; 30% to CO-956-9820-BJ-CO03-241A; and 12% to CO-956-1910-BJ-4667-241A]

Colorado: Filing of Plats of Survey

June 29, 2001.

The plats of survey of the following described land will be officially filed in the Colorado State Office, Bureau of Land Management, Lakewood, Colorado, effective 10 a.m., June 29, 2001. All inquiries should be sent to the Colorado State Office, Bureau of Land Management, 2850 Youngfield Street, Lakewood, Colorado 80215-7093.

The plat representing the dependent resurvey of a portion of the south boundary and the subdivision lines of section 35, a partial subdivision of section 35 and the metes-and-bounds survey of Parcels A, B (Yucca House National Monument) and C, in section 35, T 35 N., R. 17 W., New Mexico Principal Meridian, Group 1252, Colorado, was accepted May 17, 2001.

This survey was requested by the National Park Service for administrative purposes.

The plat representing the dependent resurvey of portions of the east, west boundaries, subdivisional lines, and the subdivision of certain sections, T. 32 N., R. 5 W., New Mexico Principal Meridian, Group 1282, Colorado, was accepted May 3, 2001.

The plat representing the dependent resurvey of a portion of the Eight Standard Parallel North (N. Bdy.), the subdivisional lines, and the subdivision of section 1, T. 32 N., R. 6 W., New Mexico Principal Meridian, Group 1293, Colorado, was accepted May 17, 2001.

These surveys were requested by the Bureau of Indian Affairs for administrative purposes.

The plat representing the dependent resurvey of a portion of the subdivisional lines, the subdivision survey of sections 27 and 28, and a metes-and-bounds in sections 27 and 28, Fractional T. 8 S., R. 83 W., Sixth Principal Meridian, Group 1301, Colorado, was accepted April 16, 2001.

The plat representing the dependent resurvey of a portion of the subdivision of section 3, and a metes-and-bounds survey in section 3, T. 5 S., R. 82 W., Sixth Principal Meridian, Group 1301, Colorado, was accepted April 23, 2001.

The plat representing the dependent resurvey of portions of the west boundary and the subdivisional lines, the subdivision of sections 17 and 18, and a metes-and-bounds survey in sections 17 and 18, T. 5 S., R. 81 W., Sixth Principal Meridian, Group 1301, Colorado, was accepted April 23, 2001.

The plat representing the dependent resurvey of the east half mile between sections 13 and 24, Mineral Survey No. 18271, and a metes-and-bounds survey in section 24, T. 1 S., R. 73 W., Sixth Principal Meridian, Group 1304, Colorado, was accepted May 1, 2001.

The plat representing the dependent resurvey of a portion Mineral Survey No. 16875, Bear Creek, Black Horse, Blue Bell, Polar Star, Golden Sun, Blue Bird, Atlas, and North Star lodes, R. 4 S., R. 73 W., Sixth Principal Meridian, Group 1222, Colorado, was accepted May 17, 2001.

The plat representing the dependent resurvey of portions of the First Standard Parallel South (S. Bdy., T. 5 S., R. 71 W.), the west boundary, the subdivisional lines, and the subdivision of certain sections, T. 5 S., R. 71 W., Sixth Principal Meridian, Group 1276, Colorado, was accepted June 13, 2001.

The plat representing the dependent resurvey of a portion of the subdivisional line, and the subdivision of section 22, T. 5 S., R. 72 W., Sixth Principal Meridian, Group 1285, Colorado, was accepted June 13, 2001.

The supplemental plat creating new lots 5, 6, 7, and 8, from old lots 2 and 3 in section 30, T. 49 N., R. 14 W., New Mexico Principal Meridian, Colorado, was accepted April 23, 2001. This plat is based upon the General Land Office survey plat approved November 6, 1895. The acreages and parenthetical distance were derived from data obtained from the plat created by William R. Day, P.L.S. No. 24660, dated July 28, 1988 and filed on September 5, 1989 with the Montrose County Clerk and Recorder, Book 1, Page 36, Reception No. 36.

These surveys and supplemental plat were requested by the Forest Service for administrative purposes.

The plat (in two sheets) representing the dependent resurvey of portions of certain mineral claims, T. 43 N., R. 5 W., New Mexico Principal Meridian, Group 1238, Colorado, was accepted April 12, 2001.

The plat (in three sheets) representing the dependent resurvey of portions of certain mineral claims, suspended T. 43 N., R. 6 W., New Mexico Principal Meridian, Group 1238, Colorado, was accepted April 12, 2001.

The amended field notes for the description of the W1/16 section corner between sections 33 and 4, on the south boundary of T. 7 S., R. 72 W., Sixth Principal Meridian, Group 1200, Colorado, was accepted April 19, 2001.

The plat representing the corrective dependent resurvey of a portion of the subdivisional lines, and the subdivision of sections 11 and 13, T. 41 N., R. 6 E., New Mexico, Group 891, Colorado, was accepted May 8, 2001.

The plat representing the corrective dependent resurvey and dependent resurvey of a portion of the subdivisional lines, a portion being identical with the west boundary of Bent's Old Fort National Historical Site, T. 23 S., R. 54 W., Sixth Principal Meridian, Group 1227, Colorado, was accepted May 10, 2001.

The plat representing the dependent resurvey of certain mineral claims, T. 42 N., R. 7 W., New Mexico Principal Meridian, Group 1239, Colorado, was accepted May 23, 2001.

The plat representing the dependent resurvey of portions of the south boundary and the subdivisional lines, and the subdivision of section 33, T. 6 N., R. 97 W., Sixth Principal Meridian, Group 1273, Colorado, was accepted May 30, 2001.

The plat representing the dependent resurvey of portions of the east boundary and subdivisional lines and the subdivision of sections 22, 23, and 24, T. 12 N., R. 99 W., Sixth Principal Meridian, Group 1279, Colorado, was accepted May 31, 2001.

The plat representing the dependent resurvey of portions the subdivisional lines and certain claim lines, T. 7 N., R. 97 W., Sixth Principal Meridian, Group 1272, Colorado, was accepted June 4, 2001.

The plat representing the dependent resurvey of portion of the subdivisional lines and the subdivision of sections 21, 22, and 28, T. 9 N., R. 89 W., Sixth principal Meridian, Group 1295, Colorado, was accepted June 4, 2001.

The plat representing the dependent resurvey of portions of the west boundary, and the subdivisional lines, and the subdivision of section 7, T. 10 N., R. 90 W., Sixth Principal Meridian, Group 1305, Colorado, was accepted June 5, 2001.

The plat representing the corrective dependent resurvey of a portion of the subdivisional lines, T. 5 N., R. 70 W., Sixth Principal Meridian, Group 632, Colorado, was accepted June 25, 2001.

The plat representing the corrective dependent resurvey of portions of the south boundary, the subdivision of sections 31 and 32, and the dependent resurvey of a portion of the south and west boundaries and the subdivisional lines, T. 6 N., R. 70 W., Sixth Principal Meridian, Group 632, Colorado, was accepted June 25, 2001.

The supplemental plat creating new lots 108, 109, and 110, in the SW¼ of section 20, T. 1 N., R. 71 W., Sixth Principal Meridian, Colorado, was accepted April 16, 2001. This plat is based upon the dependent resurvey plats approved August 28, 1991 and February 3, 1997, and the Supplemental Plat approved March 13, 1963, and the official records of the following mineral claims; M.S.473, White Pine, approved June 29, 1882, M.S. 507, Shields (Cancelled), approved October 23, 1882, M.S. 591, Coercion, approved February 7, 1883, and M.S. 12827, Little May, approved November 3, 1898.

The supplemental plat creating new lot 4 from M.S. 20194 Blue Bell, cancelled February 21, 2001, was accepted May 15, 2001. This plat is base upon the plat approved April 21, 1969.

These surveys and supplemental plats were requested by the Bureau of Land Management for administrative purposes.

Darryl A. Wilson,
Chief Cadastral Surveyor for Colorado.

[FR Doc. 01-19032 Filed 7-30-01; 8:45 am]

BILLING CODE 4310-JB-P